DEPARTMENT OF HEALTH AND HUMAN SERVICES

Centers for Disease Control and Prevention

[30Day-21-20QO]

Agency Forms Undergoing Paperwork Reduction Act Review

In accordance with the Paperwork Reduction Act of 1995, the Centers for Disease Control and Prevention (CDC) has submitted the information collection request titled “Pilot Implementation of the Violence Against Children and Youth Survey (VACS) in the United States” to the Office of Management and Budget (OMB)for review and approval. CDC previously published a “Proposed Data Collection Submitted for Public Comment and Recommendations” notice on July 28, 2020 to obtain comments from the public and affected agencies. CDC did not receive public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Pilot Implementation of the Violence Against Children and Youth Survey (VACS) in the United States—New—National Center for Injury Prevention and Control (NCIPC), Centers for Disease Control and Prevention (CDC).

Background and Brief Description

Violence against children is a global human rights violation that spans every country worldwide and affects a billion children each year. In the US, many youth are the victims of multiple forms of violence and abuse. An estimated 10 million children in the US have experienced child abuse and neglect. Each day, about a dozen youth are victims of homicide and more than 100 times that number (~1,400) are treated annually in emergency rooms for physical assault injuries.

Youth are also involved in high levels of peer violence, which is one of the leading causes of death for people ages 10-24. A body of research has shown that the impact of violence against children goes far beyond the initial incident, and that those who have experienced emotional, physical, and sexual violence can experience severe short to long-term health and social consequences. Given the serious and lasting impact on children, it is critical to understand the magnitude and nature of violence against children in order to develop effective prevention and response strategies. Currently, data to guide state and local violence prevention and response efforts in the United States are quite limited. While some studies have provided information on the risks and impact on violence against children, they are mostly limited in scale and cannot be generalized to the scope of violence against youth across the US or for specific regions.

VACS is a methodology which CDC has conducted in 24 countries globally to measure the magnitude of physical, sexual, and emotional violence against children as well as associated risk and protective factors. VACS has contributed to research throughout the world, demonstrating the high prevalence of violence against children in a variety of countries and cultures, and have proven to be critical tools that can fill data gaps in ways that are vital to informing strategic planning and evidence-based public health efforts in many countries. However, VACS have not been implemented in the U.S., and the existing representative datasets of violence against youth in the U.S. have significant limitations that prevent the data from being actionable for prevention planning by public health departments at the local level. VACS in the U.S will help fill this gap with rigorous probability-based estimates of the problem of youth violence combined with an internationally tested approach to embed the VACS survey into the local strategic planning process of local public health partners.

The present project will implement a pilot testing for the adapted VACS survey and methodology in two contexts: (1) a representative sample of 13-24 year old youth in Baltimore and (2) a convenience sample of 13-24 year old youth in rural Garrett County, Maryland to test the VACS in-person methodology in a rural location. Data will be collected through in-person probability-based household surveys, which will be conducted using a combination of interviewer-administration and Audio Computer-Assisted Self-Interview Software on tablets. Data will be analyzed using statistical software to account for the complexity of the survey design to compute weighted counts, percentages, and confidence intervals using probability-based survey data at the local level.

The findings from this pilot study will be used primarily to better understand the feasibility and effectiveness of implementing VACS in the U.S., which will ultimately determine the magnitude of violence against children and underlying risk and protective factors in order to make recommendations to national and international agencies and non-governmental organizations on developing strategies to identify, treat and prevent violence against children. CDC is requesting three years approval from OMB for this collection with a total estimated annualized burden of 800 hours There are no costs to respondents other than their time.

Estimated Annualized Burden Hours
Type of respondent | Form name | Number of respondents | Number of responses per respondent | Average burden per response (hours)
Head of Household | Invitation letter | 3,121 | 1 | 2/60
| Screener Questionnaire | 2,808 | 1 | 3/60
| Head of Household Consent | 702 | 1 | 2/60
| Head of Household Questionnaire | 632 | 1 | 15/60
Youth ages 13-24 in Baltimore or Garrett County, Maryland | Youth participant consent/assent | 632 | 1 | 3/60
| Core Youth Participant Questionnaire | 377 | 1 | 1

Jeffrey M. Zirger,
Lead, Information Collection Review Office, Office of Scientific Integrity, Office of Science, Centers for Disease Control and Prevention.

[FR Doc. 2021-00002 Filed 1-6-21; 8:45 am]

BILLING CODE 4163-18-P